DEPARTMENT OF HOMELAND SECURITY

Coast Guard

[USCG-2005-23333]

Random Drug Testing Rate for Covered Crewmembers

AGENCY: Coast Guard, DHS.

ACTION: Notice of minimum random drug testing rate.

SUMMARY: The Coast Guard has set the calendar year 2006 minimum random drug testing rate at 50 percent of covered crewmembers. Based upon an evaluation of the 2004 Management Information System (MIS) data collection forms submitted by marine employers, we will maintain the minimum random drug testing at 50 percent of covered crewmembers for the calendar year 2006. The purpose of setting a minimum random drug testing rate is to establish a measure of deterrence for the illegal use of controlled substances.

DATES: The minimum random drug testing rate is effective January 1, 2006 through December 31, 2006. You must submit your 2005 MIS reports no later than March 15, 2006.

ADDRESSES: The annual MIS report may be submitted in writing to Commandant (G-MOA), U.S. Coast Guard Headquarters, 2100 Second Street, SW., Room 2404, Washington, DC 20593-0001 or by electronic submission to the following Internet address: http://www.uscg.mil/hq/g-m/moa/dapip.htm.

FOR FURTHER INFORMATION CONTACT: For questions about this notice, please contact Mr. Robert C. Schoening, Drug and Alcohol Program Manager, Office of Investigations and Analysis (G-MOA), U.S. Coast Guard Headquarters, telephone 202-267-0684. If you have questions on viewing the docket, call Renee V. Wright, Program Manager, Dockets Operations, Department of Transportation, telephone 202-366-0402.

SUPPLEMENTARY INFORMATION: Under 46 CFR 16.230, the Coast Guard requires marine employers to establish random drug testing programs for covered crewmembers on inspected and uninspected vessels. All marine employers are required to collect and maintain a record of drug testing program data for each calendar year, January 1 through December 31. You must submit this data by 15 March of the following year to the Coast Guard in an annual MIS report.

You may either submit your own MIS report or have a consortium or other employer representative submit the data in a consolidated MIS report. The chemical drug testing data is essential to analyze our current approach for deterring and detecting illegal drug abuse in the maritime industry.

Since 2004 MIS data indicates that the positive random testing rate is greater than one percent industry-wide (1.53 percent), the Coast Guard announces that the minimum random drug testing rate is set at 50 percent of covered employees for the period of January 1, 2006 through December 31, 2006 in accordance with 46 CFR 16.230(e).

Each year we will publish a notice reporting the results of the previous calendar year's MIS data, and the minimum annual percentage rate for random drug testing for the next calendar year.

Dated: December 20, 2005.
T.H. Gilmour,
Rear Admiral, U.S. Coast Guard, Assistant Commandant for Marine Safety, Security and Environmental Protection.

[FR Doc. E5-7897 Filed 12-27-05; 8:45 am]

BILLING CODE 4910-15-P